ENVIRONMENTAL PROTECTION AGENCY

40 CFR Part 52

[EPA-R05-OAR-2015-0844; FRL-9960-88-Region 5]

Air Plan Approval; Minnesota; Sulfur Dioxide Limits for Saint Paul Park Refining Co. LLC Facility

AGENCY: Environmental Protection Agency (EPA).

ACTION: Direct final rule.

SUMMARY: The Environmental Protection Agency (EPA) is approving a site-specific state implementation plan (SIP) revision in Washington County, Minnesota, for Saint Paul Park Refining Co. LLC (Saint Paul Park). This revision includes changes to the ownership and facility name, removal of the ability to burn refinery oil, addition of a new unit, and updates to the modeling parameters for the facility. EPA is approving the SIP revision because it meets Clean Air Act (CAA) section 110(l) requirements.

DATES: This direct final rule will be effective June 6, 2017, unless EPA receives adverse comments by May 8, 2017. If adverse comments are received, EPA will publish a timely withdrawal of the direct final rule in the Federal Register informing the public that the rule will not take effect.

ADDRESSES: Submit your comments, identified by Docket ID No. EPA-R05-OAR-2015-0844 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we”, “us”, or “our” is used, we mean EPA. This supplementary information section is arranged as follows:

I. What is the background for this revision?

II. How is the SIP being revised?

III. What is EPA's analysis?

IV. What action is EPA taking?

V. Incorporation by Reference

VI. Statutory and Executive Order Reviews

I. What is the background for this revision?

Saint Paul Park operates a petroleum refinery in Washington County, Minnesota. The refinery processes crude oil into various products such as gasoline, diesel fuel, distillate oils, asphalt, and sulfur. Saint Paul Park is in the Minneapolis-Saint Paul, Minnesota sulfur dioxide (SO2) maintenance area. This area was designated as nonattainment for the SO2 National Ambient Air Quality Standard (NAAQS) on March 3,1978 (43 FR 8962). EPA redesignated the area in 1997 to attainment of the SO2 NAAQS, making it a maintenance area (May 13, 1997, 62 FR 26230).

EPA previously approved the joint Title I/Title V document (permit number 16300003-016) as a SIP revision on December 28, 2010 (75 FR 81471)

On December 17, 2015, Minnesota submitted to EPA the joint Title I/Title V document (permit number 16300003-021), effective on November 25, 2015, as a revision to its SIP.

On January 13, 2017, Minnesota submitted a revised air dispersion modeling analysis for Saint Paul Park. The modeling analysis provides insight into the expected air quality impacts that result from the revisions at this facility.

II. How is the SIP being revised?

The SIP modifications for Saint Paul Park consist of: (1) An update to the facility ownership and name, (2) restricting five combustion units to burning only natural gas or refinery gas by removing their ability to burn refinery oil, (3) an update of the modeling parameters for the facility, and (4) the addition of a new unit, the solvent deasphalting unit (EQUI 323).

First, the facility was previously listed in the Minnesota SIP as Marathon Petroleum Company, LLC, and has since changed its name to Saint Paul Park Refining Co. LLC. The facility is an indirect, wholly-owned subsidiary of Northern Tier Energy, LP.

Second, EPA is approving the removal of Saint Paul Park's ability to combust refinery oil. The five units that previously could use refinery oil are now restricted to using refinery gas or natural gas. Specifically, this applies to the numbered equipment (EQUI) 1, EQUI 3, EQUI 6, EQUI 13, and EQUI 15 units. The SO2 emission limits in the SIP for the five units were reduced to reflect the potential to emit when using refinery gas. The revised SO2 limits in pounds per hour (lb/hr), as a 3-hour rolling average, are as follows:

• Alkylation Isostripper Reboiler (EQUI 1) reduced from 64.08 lb/hr to 1.44 lb/hr.

• No. 2 Crude Vacuum Heater (EQUI 3) from 48.60 lb/hr to 2.62 lb/hr.

• No. 1 Crude Charge Heater (EQUI 6) from 52.20 lb/hr to 2.83 lb/hr.

• Hot Oil Heater (EQUI 13) from 76.50 lb/hr to 2.62 lb/hr.

• SGP Dehexanizer Reboiler (EQUI 15) from 36.0 lb/hr to 1.60 lb/hr.

Revisions to the SO2 limits also removed the pounds SO2 per million British thermal units (lbs-SO2/MMBTU) limitations for all applicable Saint Paul Park units because they were redundant. The lbs-SO2/MMBTU emission limits came from its potential to emit SO2 from the hydrogen sulfide (H2S) in the fuel. Thus, the existing H2S concentration limit caps emissions making a revised lbs-SO2/MMBTU limit unnecessary.

Third, EPA is approving updated modeling parameters for Saint Paul Park because removing the ability to burn refinery oil changes plume dispersion characteristics. Also, Boilers 7 and 8 (EQUI 42 and EQUI 43) are more efficient than presumed in the modeled design, meaning there is less waste heat resulting in lower stack gas temperatures than expected. Thus, the modeling parameters for Saint Paul Park have been revised.

Finally, the SIP request for permit number 16300003-021 allows for the installation of a solvent deasphalting unit, which includes a heater (EQUI 323) fired by refinery gas or natural gas. This unit is the only new SO2 source, which has a potential to emit of 0.80 lb SO2/hr.

III. What is EPA's analysis?

The SO2 emission limitations being approved result in a decrease of 1699.59 tons per year, which includes the installation of a solvent deasphalting unit. That is a more than 25 percent reduction in SO2 emission limitations from 5697.59 to 3998.00 tons per year (permit number 16300003-016 to 16300003-021).

The modeling analysis Minnesota provided shows the area expects to continue to meet the SO2 NAAQS with the revisions being approved. The modeling analysis shows the Minneapolis-Saint Paul maintenance area expects to continue to meet the SO2 NAAQS. That result is logical, given the net emissions reduction of the revisions being approved at Saint Paul Park.

The updated modeling parameters in the permit were also revised to better reflect the current operating conditions at Saint Paul Park. Minnesota will use the updated modeling parameters to improve the accuracy of future modeling.

IV. What action is EPA taking?

EPA is approving revisions to the SO2 limitations at Saint Paul Park in Washington County, Minnesota, because they meet CAA section 110(l) requirements. EPA is approving into the Minnesota SIP the portions of the joint Title I/Title V document (permit number 16300003-021), cited as “Title I Condition: 40 CFR 50.4(SO2 SIP), Title I Condition: 40 CFR pt. 52, subp. Y.” This approval replaces the conditions of Permit Number 16300003-016 as approved on December 28, 2010 into the Minnesota SIP. 75 FR 81471.

The revisions include changes to the ownership and facility name, removal of the ability to burn refinery oil, addition of a new unit, and updates to the modeling parameters for the facility. These revisions are expected to reduce potential SO2 emissions from Saint Paul Park by more than 25 percent.

We are publishing this action without prior proposal because we view this as a noncontroversial amendment and anticipate no adverse comments. However, in the proposed rules section of this Federal Register publication, we are publishing a separate document that will serve as the proposal to approve the state plan if relevant adverse written comments are filed. This rule will be effective June 6, 2017 without further notice unless we receive relevant adverse written comments by May 8, 2017. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective June 6, 2017.

V. Incorporation by Reference

In this rule, EPA is finalizing regulatory text that includes incorporation by reference. In accordance with requirements of 1 CFR 51.5, EPA is finalizing the incorporation by reference of the Minnesota Regulations described in the amendments to 40 CFR part 52 set forth below. Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation.¹ EPA has made, and will continue to make, these documents generally available electronically through www.regulations.gov and/or in hard copy at the appropriate EPA office (please contact the person identified in the FOR FURTHER INFORMATION CONTACT section of this preamble for more information).

¹ 62 FR 27968 (May 22, 1997).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 6, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2)).

List of Subjects in 40 CFR Part 52

Environmental protection, Air pollution control, Incorporation by reference, Intergovernmental relations, Reporting and recordkeeping requirements, Sulfur oxides.

Dated: March 22, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1220, the table in paragraph (d) is amended by removing the entry for “Marathon Petroleum, LLC” and adding in alphabetical order an entry for “Saint Paul Park Refining Co., LLC”.

The addition reads as follows:

§ 52.1220 Identification of plan.

* * * * *

(d) * * *

EPA-Approved Minnesota Source-Specific Permits
Name of source | Permit No. | State effective date | EPA approval date | Comments
* * * * * * *
Saint Paul Park Refining Co., LLC | 16300003-021 | 11/25/2015 | 4/7/2017, [Insert Federal Register citation] | Only conditions cited as “Title I Condition: 40 CFR 50.4 (SO2 SIP), Title I Condition: 40 CFR pt. 52, subp. Y”
* * * * * * *

* * * * *

[FR Doc. 2017-06881 Filed 4-6-17; 8:45 am]

BILLING CODE 6560-50-P